FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 26, 2012.

A. Federal Reserve Bank of Chicago (Colette A. Fried, Assistant Vice President) 230 South LaSalle Street, Chicago, Illinois 60690-1414:

1. The Gause Family, consisting of Bryce and Sheila Gause, Lynnville, Iowa; HW and Nancy Barnhouse, Vero Beach, Florida; Lester and Kay Gause, Newton, Iowa; Charles Gause, Providence, North Carolina; Gary and Joan Ales, Lakewood Ranch, Florida; Rebecca Barnhouse, Youngstown, Ohio; Richard Buls, New Market, Maryland; Kristy Crawford, Frederick, Maryland; Curtis Gause, Pleasant Hill, Iowa; Peggy Gause, Roanoke, Virginia; Russell Gause, Pasadena, Texas; Carrie Holub, Davenport, Iowa; Connie Kopacek, Urbandale, Iowa; Cynthia Smith, Newton, Iowa; and Kimberly Soulen, Meyersville, Maryland, all acting in concert, to retain control of First State Bank Holding Company, and thereby indirectly retain control of First State Bank, both in Lynnville, Iowa.

Board of Governors of the Federal Reserve System, June 6, 2012.
Michael J. Lewandowski,
Assistant Secretary of the Board.

[FR Doc. 2012-14086 Filed 6-8-12; 8:45 am]

BILLING CODE 6210-01-P